DEPARTMENT OF TRANSPORTATION

Federal Aviation Administration

Weight and Balance Control Program Committee; Correction

AGENCY: Federal Aviation Administration (FAA), DOT.

ACTION: Notice of request for participation; correction.

SUMMARY: This document makes corrections to the notice of request of participation published in the Federal Register on May 28, 2003 (68 FR 31740), which announces the formation of the Weight and Balance Control Program Aviation Rulemaking Committee to conduct a review of AC 120-27C and other related guidance, and provide advice and recommendations.

FOR FURTHER INFORMATION CONTACT: Mr. Darcy Reed, 202-267-9948, or e-mail: Darcy.D.Reed@faa.gov.

Correction

In the notice FR Doc. 03-13243, published on May 28, 2003 (68 FR 31740), make the following correction:

On page 31741, in the first column, fourth full paragraph, line two, correct “docket number FAA-2003-XXXX” to read “docket number FAA-2003-15281.”

Issued in Washington, DC on May 30, 2003.
Carol E. Giles,
Assistant Division Manager, Air Maintenance Division, Flight Standards Service.

[FR Doc. 03-14072 Filed 6-3-03; 8:45 am]

BILLING CODE 4910-13-M